INTERNATIONAL TRADE COMMISSION

[Investigations Nos. AA1921-197 (Review), 701-TA-231, 319-320, 322, 325-328, 340, 342, and 348-350 (Review), and 731-TA-573-576, 578, 582-587, 604, 607-608, 612, and 614-618 (Review)]

Certain Carbon Steel Products From Australia, Belgium, Brazil, Canada, Finland, France, Germany, Japan, Korea, Mexico, Netherlands, Poland, Romania, Spain, Sweden, Taiwan, and United Kingdom

Determinations

On the basis of the record ¹ developed in the subject five-year reviews, the United States International Trade Commission determines, pursuant to section 751(c) of the Tariff Act of 1930 (19 U.S.C. 1675(c)) (the Act), that revocation of the countervailing duty orders and antidumping duty orders on the following certain carbon steel products from the specified countries would likely lead to continuation or recurrence of material injury to an industry in the United States within a reasonably foreseeable time:

¹ The record is defined in sec. 207.2(f) of the Commission's Rules of Practice and Procedure (19 CFR § 207.2(f)).

Country | Cut-to-length plate | Corrosion- resistant
Australia |  | 731-TA-612
Belgium | 701-TA-319 731-TA-573 |
Brazil | 701-TA-320 731-TA-574 |
Canada |  | 731-TA-614
Finland | 731-TA-576 |
France |  | 701-TA-348 731-TA-615
Germany | 701-TA-322 731-TA-578 | 701-TA-349 ² 731-TA-616 ²
Japan |  | 731-TA-617
Korea |  | 701-TA-350 731-TA-618
Mexico | 701-TA-325 731-TA-582 |
Poland | 731-TA-583 |
Romania | 731-TA-584 |
Spain | 701-TA-326 731-TA-585 |
Sweden | 701-TA-327 731-TA-586 |
Taiwan | AA1921-197 ² |
United Kingdom | 701-TA-328 ³ 731-TA-587 ³ |
² Commissioner Askey dissenting.
³ Chairman Koplan and Commissioner Askey dissenting.

The Commission determines that revocation of the countervailing duty orders and antidumping duty orders on the following certain carbon steel products from the specified countries would not be likely to lead to continuation or recurrence of material injury to an industry in the United States within a reasonably foreseeable time:

Country | Cut-to-length plate | Corrosion- resistant
Canada | 731-TA-575 |
Germany |  | 701-TA-340 ⁴ 731-TA-604 ⁴
Korea |  | 701-TA-342 ⁴ 731-TA-607 ⁴
Netherlands |  | 731-TA-608 ⁴
Sweden |  | 701-TA-231
⁴ Commissioners Bragg and Miller dissenting.

Background

The Commission instituted these reviews on September 1, 1999 (64 FR 47862) and determined on December 3, 1999, that it would conduct full reviews (64 FR 71494, December 21, 1999). Notice of the scheduling of the Commission's reviews and of public hearings to be held in connection therewith was given by posting copies of the notice in the Office of the Secretary, U.S. International Trade Commission, Washington, DC, and by publishing the notice in the Federal Register on April 18, 2000 (65 FR 20833). The hearings were held in Washington, DC, on September 12, 13, and 15, 2000, and all persons who requested the opportunity were permitted to appear in person or by counsel.

The Commission transmitted its determinations in these investigations to the Secretary of Commerce on November 21, 2000. The views of the Commission are contained in USITC Publication 3364 (November 2000), entitled Certain Carbon Steel Products from Australia, Belgium, Brazil, Canada, Finland, France, Germany, Japan, Korea, Mexico, Netherlands, Poland, Romania, Spain, Sweden, Taiwan, and United Kingdom: Investigations Nos. AA1921-197 (Review), 701-TA-231, 319-320, 322, 325-328, 340, 342, and 348-350 (Review), and 731-TA-573-576, 578, 582-587, 604, 607-608, 612, and 614-618 (Review).

Issued: November 27, 2000.
By order of the Commission.
Donna R. Koehnke,
Secretary.

[FR Doc. 00-30673 Filed 11-30-00; 8:45 am]

BILLING CODE 7020-02-P